SMALL BUSINESS ADMINISTRATION

13 CFR Parts 121, 124, 125, 126, and 127

[Docket No. SBA-2011-006]

Small Business Jobs Act Tour: Selected Provisions Having an Effect on Government Contracting

AGENCY: U.S. Small Business Administration (SBA)

ACTION: Notice of public meetings; correction.

SUMMARY: The Small Business Administration (SBA) published a document in the Federal Register on Friday, March 25, 2011, concerning the Small Business Act Tour: Selected Provisions Having an Effect on Government that announced a series of public meetings on the implementation of provisions of the Small Business Jobs Act of 2010 (SBJA). This document corrects the DATES section and the Event Information table.

FOR FURTHER INFORMATION CONTACT: Richard L. Miller, Small Business Job's Act Tour-Office of Government Contracting and Business Development, 409 Third Street, SW., Washington, DC 20416, at (202) 205-6895, Fax (202) 481-4291, or e-mail richard.miller@sba.gov.

Correction

In the Federal Register of March 25, 2011, in FR Doc. 2011-7135, on page 16703, in the second column, correct the DATES caption to read:

DATES: The meetings will be held on the dates and times specified in the Event Information section of the Supplementary Information below. It is recommended that all attendees register at least one week prior to the scheduled meeting date. In addition, comments to SBA docket number SBA-2011-0006 must be received on or before June 6, 2011.

In the Federal Register of March 25, 2011, in FR Doc. 2011-7135, on page 16706, in the third column, correct the “Event Information” caption to read:

III. Event Information

Location | Date | Address
Seattle, WA | May 9, 2011, Begins 1 p.m., Ends 5:30 p.m | Holiday Inn Seattle-SeaTac International Airport, 17338 International Blvd, Seattle, WA 98188.
Denver, CO | May 24, 2011, Begins 9 a.m., Ends 4:15 p.m | PPA Event Center, 2105 Decatur Street, Denver, CO 80211.
Albuquerque, NM | June 2, 2011, Begins 9 a.m., Ends 4:15 p.m | Embassy Suites Albuquerque, 1000 Woodward Place NE, Albuquerque, NM 87102.
San Diego, CA | June 3, 2011, Begins 9 a.m., Ends 4:15 p.m | Scottish Rite Event Center, 1985 Camino del Rio, South, San Diego, CA 92108.

Dated: April 24, 2011.
Calvin Jenkins,
Deputy Associate Administrator for Government Contracting.

[FR Doc. 2011-10921 Filed 5-9-11; 8:45 am]

BILLING CODE 8025-01-P